DEPARTMENT OF TRANSPORTATION

Federal Aviation Administration

Public Meeting/Notice of Availability for Proposed Air Tour Management Plans at Mount Rainier National Park; Death Valley National Park; Everglades National Park; and Olympic National Park

AGENCY: Federal Aviation Administration (FAA), Transportation.

ACTION: Public meeting/notice of availability for draft Air Tour Management Plans at Mount Rainier National Park; Death Valley National Park; Everglades National Park; and Olympic National Park.

SUMMARY: The FAA, in cooperation with the National Park Service (NPS), has initiated development of Air Tour Management Plans (ATMPs) for Mount Rainier National Park, Death Valley National Park, Everglades National Park, and Olympic National Park (collectively referred to as the Parks) pursuant to the National Parks Air Tour Management Act of 2000 and its implementing regulations. This notice announces the public availability of the proposed ATMPs for comment and public meetings for each of the Parks. The purpose of these meetings is to review the proposed ATMPs and further ATMP development with the public. The proposed ATMPs provide acceptable and effective measures to mitigate or prevent the significant adverse impacts, if any, of commercial air tour operations upon the natural and cultural resources, visitor experiences, and tribal lands. In accordance with Section 106 of the National Historic Preservation Act, the FAA and the NPS are also seeking public comment on the potential of the proposed ATMPs to cause adverse effects to historic properties.

DATES: Comment Period: Comments must be received on or before 30 days from this notice.

Comments will be received on the NPS Planning, Environment and Public Comment System (PEPC) website. Each park's website link is below:

• Mount Rainer National Park— https://parkplanning.nps.gov/MountRainierATMP

• Death Valley National Park— https://parkplanning.nps.gov/DeathValleyATMP

• Everglades National Park— https://parkplanning.nps.gov/EvergladesATMP

• Olympic National Park— https://parkplanning.nps.gov/OlympicATMP

Meetings: The meetings will be held at the following dates and times:

• Monday, August 16, 2021 (4:30-6:00 p.m. PT)—Mount Rainier National Park Livestream: https://youtu.be/dVqpZ_X5vww

• Tuesday, August 17, 2021 (4:30-6:00 p.m. PT)—Death Valley National Park Livestream: https://youtu.be/mqWiaVorP3Y

• Thursday, August 19, 2021 (6:30-8:00 p.m. ET)—Everglades National Park Livestream: https://youtu.be/YED_w6Bkztg

• Wednesday, August 25, 2021 (5:30-7:00 p.m. PT)—Olympic National Park Livestream: https://youtu.be/lSW9867qHiA

ADDRESSES: The meetings will be held virtually. Members of the public who wish to observe the virtual meetings can access the livestream from either of the following FAA social media platforms on the day of the event, https://www.facebook.com/FAA, https://twitter.com/FAANews or https://www.youtube.com/FAAnews.

Contact: Any request for reasonable accommodations should be sent to the person listed on the parks' PEPC sites.

SUPPLEMENTARY INFORMATION: The FAA is issuing this notice pursuant to the National Parks Air Tour Management Act of 2000 (Pub. L. 106-181) and its implementing regulations contained in Title 14, Code of Federal Regulations, Part 136, Subpart B, National Parks Air Tour Management. The objectives of the ATMPs are to develop acceptable and effective measures to mitigate or prevent the significant adverse impacts, if any, of commercial air tour operations upon the natural resources, cultural resources, and visitor experiences of the Parks and any tribal lands within or abutting the Parks. The FAA and the NPS are inviting comment from the public, Federal and state agencies, tribes, and other interested parties on the proposed ATMPs for Mount Rainier National Park, Death Valley National Park, Everglades National Park, and Olympic National Park.

The FAA and the NPS have determined that each ATMP constitutes a Federal undertaking subject to compliance with Section 106 of the National Historic Preservation Act and its implementing regulations (36 CFR part 800). The FAA and the NPS are consulting with tribes, State and Tribal Historic Preservation Officers, and other interested parties to identify historic properties and assess the potential effects of ATMPs on them.

The meetings will be open to the public and livestreamed. Members of the public who wish to observe the virtual meetings can access the livestream from either of the following FAA social media platforms on the day of the event, https://www.facebook.com/FAA, https://twitter.com/FAANews or https://www.youtube.com/FAAnews. The U.S. Department of Transportation is committed to providing equal access to the meetings for all participants. If you need alternative formats or services because of a disability, such as sign language, interpretation, or other ancillary aids, please contact the person listed in the FOR FURTHER INFORMATION CONTACT section.

The FAA and the NPS request that comments be as specific as possible in response to actions that are being proposed under this notice. All written comments become part of the official record. Written comments on the proposed ATMPs can also be submitted via PEPC or sent to the mailing addresses listed in the FOR FURTHER INFORMATION CONTACT sections provided on the parks' PEPC sites.

Documents that describe each Park's ATMP project in greater detail are available at the following locations:

• FAA Air Tour Management Plan Program website, http://www.faa.gov/about/office_org/headquarters_offices/arc/programs/air_tour_management_plan/

• NPS Planning, Air Tours website, https://home.nps.gov/subjects/sound/airtours.htm

Issued in Washington, DC. On July 23, 2021.
Kevin Welsh,
Executive Director, FAA Office of Environment & Energy.

[FR Doc. 2021-16182 Filed 7-28-21; 8:45 am]

BILLING CODE 4910-13-P